ENVIRONMENTAL PROTECTION AGENCY

[FRL-7970-6]

Science Advisory Board Staff Office; Notification of Advisory Meeting of the Science Advisory Board; Regulatory Environmental Modeling (REM) Guidance Review Panel

AGENCY: Environmental Protection Agency (EPA).

ACTION: Notice.

SUMMARY: The Science Advisory Board (SAB) Regulatory Environmental Modeling (REM) Guidance Review Panel will hold two public teleconferences to discuss its draft peer review report of the Agency's Draft Guidance on the Development, Evaluation, and Application of Regulatory Environmental Models, dated November 2003 (referred to here also as the Draft Guidance), and the Models Knowledge Base related to modeling activity within the EPA.

DATES: October 12, 2005, 1 p.m. to 4 p.m. Eastern Standard Time and October 13, 2005, 10 a.m. to 1 p.m. Eastern Standard Time.

ADDRESSES: The public teleconferences will take place via telephone only.

FOR FURTHER INFORMATION CONTACT: Any member of the public who wishes to obtain the teleconference call-in number and access code, or who wants further information concerning these public teleconferences should contact Dr. K. Jack Kooyoomjian, Designated Federal Officer (DFO), EPA SAB, 1200 Pennsylvania Avenue, NW. (MC 1400F), Washington, DC 20460; via telephone/voice mail: (202) 343-9984; fax: (202) 233-0643; or e-mail at: kooyoomjian.jack@epa.gov. General information concerning the SAB can be found on the SAB Web site at: http://www.epa.gov/sab.

SUPPLEMENTARY INFORMATION:

Background: The EPA's Council for Regulatory Environmental Modeling (CREM) has requested that the SAB review the Agency's Draft Guidance and Models Knowledge Base. The Draft Guidance was prepared by the CREM in response to the EPA Administrator's request to continue to strengthen EPA's development, evaluation and use of models in the Agency. The CREM Models Knowledge Base provides public Internet access to information on some of EPA's most frequently used models. The Draft Guidance and Models Knowledge Base are currently under review by the SAB's REM Guidance Review Panel, and are the subject of these conference calls. Additional background information on this review and all previous announcements [68 FR 46602, Aug. 6, 2003; 70 FR 1243, January 6, 2005; 70 FR 12477, March 14, 2005; and 70 FR 30948, May 31, 2005, and 70 FR 41008, July 15, 2005], meeting agendas, review and background materials can be found at the SAB Web site. The purpose of these meetings is for the SAB Panel to review the working draft report. If the second conference call is not necessary, Dr. Kooyoomjian will announce this prior to adjournment of the October 12, 2005 meeting, and will be on the line for the first ten minutes commencing at 10 a.m. EST on October 13, 2005 to advise interested parties.

Availability of Meeting Materials: Copies of the meeting agenda, the roster of the SAB's REM Guidance Review Panel, and the latest working draft report of the REM Guidance Advisory Panel will be posted on the SAB Web site at: http://www.epa.gov/sab/panels/cremgacpanel.html prior to the meetings.

Copies of the Agency's Draft Guidance and Models Knowledge Base and other background materials pertinent to this advisory activity may be obtained at: www.epa.gov/crem, or www.epa.gov/crem/sab. For further information regarding the Agency's Draft Guidance and Models Knowledge Base, contact Pasky Pascual, Office of Research & Development, National Center for Environmental Research (Mail Code 8701F), by telephone/voice mail at (202) 343-9710, by fax at (202) 233-0680; or via e-mail at pascual.pasky@epa.gov.

Providing Oral or Written Comments at SAB Meetings: The SAB Staff Office accepts written public comments of any length, and will accommodate oral public comments wherever possible. The SAB Staff Office expects that public statements presented at its meetings will not repeat previously submitted oral or written statements.

Oral Comments: In general, each individual or group requesting an oral presentation at a public teleconference will be limited to a total time of three minutes (unless otherwise indicated). Requests to provide oral comments must be in writing (e-mail, fax, or mail) and received by the DFO no later than noon Eastern Standard Time, October 4, 2005 in order to reserve time on the meeting agenda.

Written Comments: Written comments should be received in the SAB Staff Office no later than noon Eastern Standard Time October 4, 2005 so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format).

Meeting Access: For information on access or services for individuals with disabilities, please contact Dr. K. Jack Kooyoomjian at 202-343-9984 or kooyoomjian.jack@epa.gov to request accommodation of a disability. Please contact Dr. Kooyoomjian, preferably by September 27, 2005, to give EPA as much time as possible to process your request. Such accommodation is required by sections 504 and 508 of the Rehabilitation Act of 1973, 29 U.S.C. 794 and 794d, EPA's implementing regulations, 40 CFR Part 12, and the federal standards for “Electronic and Information Technology Accessibility,” 36 CFR Part 1194, which govern accessibility and accommodation in relation to EPA programs and activities, such as Federal Advisory Committee meetings.

Dated: September 13, 2005.
Anthony F. Maciorowski,
Associate Director for Science, EPA Science Advisory Board Staff Office.

[FR Doc. 05-18577 Filed 9-16-05; 8:45 am]

BILLING CODE 6560-50-P